DEPARTMENT OF TRANSPORTATION

Federal Aviation Administration

14 CFR Part 39

[Docket No. FAA-2008-1098; Directorate Identifier 2008-NM-108-AD; Amendment 39-16532; AD 2010-24-13]

RIN 2120-AA64

Airworthiness Directives; The Boeing Company Model 747-100, 747-100B, 747-100B SUD, 747-200B, 747-200C, 747-200F, 747-300, 747SR, and 747SP Series Airplanes

AGENCY: Federal Aviation Administration (FAA), DOT.

ACTION: Final rule; correction.

SUMMARY: The FAA is correcting an airworthiness directive (AD) that published in the Federal Register. That AD applies to the products listed above. The reference to a “sub-section number” in paragraph (g) of the regulatory section is incorrect. This document corrects that error. In all other respects, the original document remains the same.

DATES: This final rule is effective May 25, 2011. The effective date for AD 2010-24-13 remains January 20, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Tung Tran, Aerospace Engineer, Propulsion Branch, ANM-140S, FAA, Seattle Aircraft Certification Office, 1601 Lind Avenue, SW., Renton, Washington 98057-3356; phone: 425-917-6505; fax: 425-917-6590; e-mail: tung.tran@faa.gov.

SUPPLEMENTARY INFORMATION: Airworthiness Directive 2010-24-13, amendment 39-16532 (75 FR 78591, December 16, 2010), currently requires adding two new indicator lights on a certain panel to inform the captain and first officer of a low pressure condition in the left and right override/jettison pumps of the center wing tanks. That AD also requires replacing the left and right override/jettison switches on the M154 fuel control module on the P4 panel with improved switches and doing the associated wiring changes. That AD also requires, for certain airplanes, installation of a mounting bracket for the new indicator lights. In addition, that AD requires a revision to the maintenance program to incorporate airworthiness limitation No. 28-AWL-22. Additionally, that AD requires a revision to the airplane flight manual to advise the flightcrew what to do in the event that the pump low pressure light on the flight engineer's panel does not illuminate when the pump is selected off. That AD requires those actions for Model 747-100, 747-100B, 747-100B SUD, 747-200B, 747-200C, 747-200F, 747-300, 747SR, and 747SP series airplanes.

As published, the reference to “sub-section number is `28-60-06' ” in paragraph (g) of the regulatory section is incorrect. The correct sub-section number is 20-60-06.

No other part of the preamble or regulatory information has been changed; therefore, only the changed portion of the final rule is being published in the Federal Register.

The effective date of this AD remains January 20, 2011.

Correction of Regulatory Text

§ 39.13 [Corrected]

In the Federal Register of December 16, 2010, on page 78593, in the second and third columns, paragraph (g) of AD 2010-24-13 is corrected to read as follows:

* * * * *

(g) Within 36 months after the effective date of this AD: For airplanes with a P10 panel installed, add two new indicator lights on the P10 panel to inform the captain and first officer of a low pressure condition in the left and right override/jettison pumps of the center wing tanks, and, for airplanes that do not have the warning panel (P10 panel) installed, add a mounting bracket and two new indicator lights to the Autopilot Flight Director panel; and replace the left and right override/jettison switches on the M154 fuel control module on the P4 panel with improved switches; and do the associated wiring changes. Accomplish these actions by doing all of the applicable actions specified in the Accomplishment Instructions of Boeing Service Bulletin 747-28A2288, Revision 1, dated January 21, 2010, except where that service bulletin states “20-60-00,” the correct sub-section number is “20-60-06,” and except as described in Table 1 of this AD.

* * * * *

Issued in Renton, Washington, on May 13, 2011.
Ali Bahrami,
Manager, Transport Airplane Directorate, Aircraft Certification Service.

[FR Doc. 2011-12591 Filed 5-24-11; 8:45 am]

BILLING CODE 4910-13-P